DEPARTMENT OF ENERGY

Federal Energy Regulatory Commission

[Docket Nos. RP95-197-043 and RP97-71-035]

Transcontinental Gas Pipe Line Corporation; Notice of Filing

September 11, 2002.

Take notice that on September 6, 2002, Transcontinental Gas Pipe Line Corporation (Transco) submitted in Docket No. RP02-520-000 its Annual Charge Adjustment (ACA) filing with the Commission in order to reflect an increase in the ACA rate from $0.0021 to $0.0022 to be effective October 1, 2002. Subsequently, Transco determined that its filing was in error because the Commission had not authorized a change in the currently effective ACA rate of $0.0021. In order to correct its error, Transco submitted a letter on September 5, 2002 in the Docket No. RP02-520 proceeding in which it proposed to withdraw its August 30, 2002 ACA filing.

Also, on September 6, 2002 Transco submitted a filing in Docket Nos. RP95-197, RP97-71 and RP01-245 in which it proposed to revise its settlement rates in Docket No. RP01-245-000 to implement the roll-in of the costs of Transco's Leidy Line and Southern expansion projects as authorized by various Commission's orders in Transco's Docket Nos. RP95-197 and RP97-71 proceeding, and to comply with the Commission's finding in that proceeding that Transco must unbundle the cost of its Emergency Eminence Storage Withdrawal Service (Roll-In Filing).

Since the Roll-In Filing incorporated the proposed changes to the ACA rate as described above, many of the tariff sheets submitted in that filing reflected an incorrect ACA rate of $0.0022.

Therefore, in order to reflect the correct ACA rate of $0.0021 on the affected tariff sheets included in the Roll-In Filing, Transco is submitting substitute tariff sheets, as appropriate.

Transco states that copies of the filing are being mailed to affected customers and interested State Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 208-1659. The Commission strongly encourages electronic filings. See 18 CFR 385.2001(a)(1)(iii) and the instructions on the Commission's Web site under the “e-Filing” link.

Magalie R. Salas,
Secretary.

[FR Doc. 02-23571 Filed 9-16-02; 8:45 am]

BILLING CODE 6717-01-P